DEPARTMENT OF THE TREASURY

Internal Revenue Service

Request for Applications for the IRS Advisory Committee on Tax Exempt and Government Entities

AGENCY: Internal Revenue Service (IRS), Tax Exempt and Government

Entities Division, Treasury.

ACTION: Notice and request for applicants or nominations.

SUMMARY: The Internal Revenue Service (IRS) is requesting applications for membership to serve on the Advisory Committee on Tax Exempt and Government Entities (ACT). Applications will be accepted for the following vacancies that will occur in June 2017: One (1) Federal, State and Local Governments, one (1) Indian Tribal Governments and one (1) Employment tax knowledge and experience in one or more areas of employee plans, exempt organizations, Indian tribal governments, tax exempt bonds or federal, state and local governments. To ensure appropriate balance of membership, final selection of qualified candidates will be determined based on experience, qualifications and other expertise.

DATES: Applications or nominations must be received on or before Monday, September 26, 2016.

ADDRESSES: Send applications and nominations using FAX: (888) 269-7419. If you need help, please call (202) 317-8798.

Application: Applicants must use the ACT Application Form (Form 12339-C) on the IRS Web site (IRS.gov). Applications should describe and document the proposed member's qualifications for membership on the ACT. Applications also should specify the vacancy for which the applicant wishes to be considered. Incomplete applications will not be processed.

FOR FURTHER INFORMATION CONTACT: Requests for additional information should be sent to tege.advisory.comm@irs.gov or call (202) 317-8798.

SUPPLEMENTARY INFORMATION: The Advisory Committee on Tax Exempt and Government Entities (ACT), governed by the Federal Advisory Committee Act, Public Law 92-463, is an organized public forum for discussion of relevant employee plans, exempt organizations, tax-exempt bonds, and federal, state, local and Indian tribal government issues between officials of the IRS and representatives of the above communities. The ACT enables the IRS to receive regular input with respect to the development and implementation of IRS policy concerning these communities. ACT members present the interested public's observations about current or proposed IRS policies, programs and procedures, as well as suggest improvements. The Secretary of the Treasury appoints ACT members, who serve three-year terms. ACT members will not be paid for their time or services. ACT members will be reimbursed for travel-related expenses to attend working sessions and public meetings, in accordance with 5 U.S.C. 5703.

The Secretary of the Treasury invites those individuals, organizations and groups affiliated with employee plans, exempt organizations, tax-exempt bonds, and federal, state, local and Indian tribal governments to nominate individuals for membership on the ACT. Nominations should describe and document the proposed member's qualifications for ACT membership, including the nominee's past or current affiliations and dealings with the particular community or segment of the community that he or she would represent (such as employee plans). Nominations also should specify the vacancy for which the individual wishes to be considered. The Department of the Treasury seeks a diverse group of members representing a broad spectrum of persons experienced in employee plans, exempt organizations, tax-exempt bonds, and federal, state, local and Indian tribal governments. Nominees must go through a clearance process before selection by the Department of the Treasury. In accordance with Treasury Directive 21-03, the clearance process includes pre-appointment and annual tax checks, and an FBI criminal and subversive name check, fingerprint check and security clearance.

Dated: August 18, 2016.
Melaney Partner,
Acting, Designated Federal Officer, Tax Exempt and Government Entities Division, Internal Revenue Service.

[FR Doc. 2016-20545 Filed 8-25-16; 8:45 am]

BILLING CODE 4830-01-P